DEPARTMENT OF TRANSPORTATION

Federal Aviation Administration

14 CFR Part 39

[Docket No. FAA-2013-0831; Directorate Identifier 2013-NM-125-AD; Amendment 39-17763; AD 2014-04-05]

RIN 2120-AA64

Airworthiness Directives; The Boeing Company Airplanes

AGENCY: Federal Aviation Administration (FAA), DOT.

ACTION: Final rule.

SUMMARY: We are adopting a new airworthiness directive (AD) for certain The Boeing Company Model 737-100, -200, -200C, -300, -400, and -500 series airplanes. This AD was prompted by reports of chaffing, arcing, and burning damage to the control cabin overhead wiring and ducting with smoke and fire caused by metal clamps installed on certain hoses. This AD requires inspecting for the presence of metal clamps, replacing metal clamps installed on the hoses to the air conditioning temperature sensor, gasper air outlet, and diffuser on the left side of the control cabin with plastic tie straps, and inspecting for and repairing damaged wire bundles. We are issuing this AD to prevent damage to wire bundles, which could cause electrical arcing that could result in a fire or smoke in the control cabin of the airplane.

DATES: This AD is effective April 1, 2014.

The Director of the Federal Register approved the incorporation by reference of a certain publication listed in this AD as of April 1, 2014.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0831; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Marie Hogestad, Aerospace Engineer, Systems and Equipment Branch, ANM-130S, FAA, Seattle Aircraft Certification Office, 1601 Lind Avenue SW., Renton, WA 98057-3356; phone: (425) 917-6418; fax: (425) 917-6590; email: marie.hogestad@faa.gov.

SUPPLEMENTARY INFORMATION:

Discussion

We issued a notice of proposed rulemaking (NPRM) to amend 14 CFR part 39 by adding an AD that would apply to certain The Boeing Company Model 737-100, -200, -200C, -300, -400, and -500 series airplanes. The NPRM published in the Federal Register on September 26, 2013 (78 FR 59304). The NPRM was prompted by reports of chaffing, arcing, and burning damage to the control cabin overhead wiring and ducting with smoke and fire caused by metal clamps installed on certain hoses. The NPRM proposed to require inspecting for the presence of metal clamps, replacing metal clamps installed on the hoses to the air conditioning temperature sensor, gasper air outlet, and diffuser on the left side of the control cabin with plastic tie straps, and inspecting for and repairing damaged wire bundles. We are issuing this AD to correct incorrectly installed metal clamps, which could cause wire bundle damage and electrical arcing that could result in a fire or smoke in the control cabin of the airplane.

Comments

We gave the public the opportunity to participate in developing this AD. The following presents the comment received on the proposal (78 FR 59304, September 26, 2013) and the FAA's response to that comment.

Statement of Supplemental Type Certificate (STC) Effect on Applicability

Aviation Partners Boeing stated that the installation of winglets per STC ST01219SE (http://rgl.faa.gov/Regulatory_and_Guidance_Library/rgstc.nsf/0/BE866B732F6CF31086257B9700692796?OpenDocument&Highlight=st01219se) does not affect the accomplishment of the proposed requirements.

We have re-designated paragraph (c) of the NPRM (78 FR 59304, September 26, 2013) as paragraph (c)(1) in this final rule and added new paragraph (c)(2) to this final rule to state that installation of STC ST01219SE (http://rgl.faa.gov/Regulatory_and_Guidance_Library/rgstc.nsf/0/BE866B732F6CF31086257B9700692796?OpenDocument&Highlight=st01219se) does not affect the ability to accomplish the actions required by this AD. Therefore, for airplanes on which STC ST01219SE is installed, a “change in product” alternative method of compliance (AMOC) approval request is not necessary to comply with the requirements of 14 CFR 39.17.

Conclusion

We reviewed the relevant data, considered the comment received, and determined that air safety and the public interest require adopting this AD with the change described previously and minor editorial changes. We have determined that these minor changes:

• Αre consistent with the intent that was proposed in the NPRM (78 FR 59304, September 26, 2013) for correcting the unsafe condition; and

• Do not add any additional burden upon the public than was already proposed in the NPRM (78 FR 59304, September 26, 2013).

We also determined that these changes will not increase the economic burden on any operator or increase the scope of this AD.

Costs of Compliance

We estimate that this AD affects 426 airplanes of U.S. registry.

We estimate the following costs to comply with this AD:

Estimated costs
Action | Labor cost | Parts cost | Cost per product | Cost on U.S. operators
Inspection and Replacement | 2 work-hours × $85 per hour = $170 per replacement | $0 | $170 per replacement | $72,420

We have received no definitive data that would enable us to provide cost estimates for the on-condition actions specified in this AD. We have no way of determining the number of products that may need these actions.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-04-05 The Boeing Company: Amendment 39-17763 ; Docket No. FAA-2013-0831; Directorate Identifier 2013-NM-125-AD.

(a) Effective Date

This AD is effective April 1, 2014.

(b) Affected ADs

None.

(c) Applicability

(1) This AD applies to The Boeing Company Model 737-100, -200, -200C, -300, -400, and -500 series airplanes, certificated in any category, as identified in Boeing Service Bulletin 737-21-1186, dated April 17, 2012.

(2) Installation of Supplemental Type Certificate (STC) ST01219SE (http://rgl.faa.gov/Regulatory_and_Guidance_Library/rgstc.nsf/0/BE866B732F6CF31086257B9700692796?OpenDocument&Highlight=st01219se) does not affect the ability to accomplish the actions required by this AD. Therefore, for airplanes on which STC ST01219SE is installed, a “change in product” alternative method of compliance (AMOC) approval request is not necessary to comply with the requirements of 14 CFR 39.17.

(d) Subject

Air Transport Association (ATA) of America Code 21, Air conditioning.

(e) Unsafe Condition

This AD was prompted by reports of chaffing, arcing, and burning damage to the control cabin overhead wiring and ducting with smoke and fire caused by metal clamps installed on certain hoses. We are issuing this AD to prevent damage to wire bundles, which could cause electrical arcing that could result in a fire or smoke in the control cabin of the airplane.

(f) Compliance

Comply with this AD within the compliance times specified, unless already done.

(g) Inspection, Replacement, and Repair

For airplanes identified in Groups 1 and 2 in Boeing Service Bulletin 737-21-1186, dated April 17, 2012: Within 60 months after the effective date of this AD, do the actions in (g)(1) and (g)(2) of this AD.

(1) Do a general visual inspection to determine if any metal clamp is installed on the hoses to the air conditioning temperature sensor, gasper air outlet, and diffuser on the left side of the control cabin at station (STA) 259.5, in accordance with the Accomplishment Instructions of Boeing Service Bulletin 737-21-1186, dated April 17, 2012. If any metal clamp is found installed, before further flight, replace each metal clamp with a plastic tie strap, in accordance with the Accomplishment Instructions of Boeing Service Bulletin 737-21-1186, dated April 17, 2012.

(2) Do a general visual inspection for damage to the adjacent wire bundles and repair any damaged wire bundles, in accordance with the Accomplishment Instructions of Boeing Service Bulletin 737-21-1186, dated April 17, 2012. Do all applicable repairs before further flight.

(h) Inspection, Replacement, and Repair

For airplanes identified in Group 3 in Boeing Service Bulletin 737-21-1186, dated April 17, 2012: Within 60 months after the effective date of this AD, replace any metal clamp installed on the hoses to the air conditioning temperature sensor, gasper air outlet, and diffuser on the left side of the control cabin at STA 259.5, and inspect adjacent wire bundles and repair any damage, before further flight, using a method approved in accordance with the procedures specified in paragraph (j) of this AD.

(i) Parts Installation Prohibition

For all airplanes: As of the effective date of this AD, no person may install a metal clamp on the hoses to the air conditioning temperature sensor, gasper air outlet, and the diffuser on the left side of the control cabin at STA 259.5.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(k) Related Information

For more information about this AD, contact Marie Hogestad, Aerospace Engineer, Systems and Equipment Branch, ANM-130S, FAA, Seattle Aircraft Certification Office, 1601 Lind Avenue SW., Renton, WA 98057-3356; phone: (425) 917-6418; fax: (425) 917-6590; email: marie.hogestad@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 737-21-1186, dated April 17, 2012.

(ii) Reserved.

(3) For service information identified in this AD, contact Boeing Commercial Airplanes, Attention: Data & Services Management, P.O. Box 3707, MC 2H-65, Seattle, Washington 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 10, 2014.
Jeffrey E. Duven,
Manager, Transport Airplane Directorate, Aircraft Certification Service.

[FR Doc. 2014-03610 Filed 2-24-14; 8:45 am]

BILLING CODE 4910-13-P